DEPARTMENT OF TRANSPORTATION

Federal Highway Administration

Draft Environmental Impact Statement: Pulaski and Laurel Counties, KY

AGENCY: Federal Highway Administration (FHWA), USDOT.

ACTION: Extension of Comment Period.

SUMMARY: On July 10, 2006, we published the Notice of Availability for the Draft Environmental Impact Statement (DEIS) for the proposed interstate facility in the south-central portion of Kentucky, between the Somerset Northern Bypass (I-66) and London, KY. The comment period on the DEIS is being extended to October 9, 2006.

FOR FURTHER INFORMATION CONTACT: Ms. Mary Murray, Transportation Engineer/Project Manager, Federal Highway Administration, 330 West Broadway, Frankfort, Kentucky 40601, (502) 223-6745, by e-mail to Mary.Murray@fhwa.dot.gov; or Mr. Joe Cox, Kentucky Transportation Cabinet (KYTC), District 8, PO Box 780, Somerset, KY 42501, by e-mail to Joe.Cox@ky.gov, by fax to (606) 677-4013.

(Catalog of Federal Domestic Assistance Program Number 20.205, Highway Planning and Construction. The regulations implementing Executive Order 12372 regarding intergovernmental consultation on Federal programs and activities apply to this program) (23 U.S.C. 315; 49 CFR 1.48)

Dated: August 30, 2006.
Jose Sepulveda,
Kentucky Division Administrator.

[FR Doc. 06-7566 Filed 9-8-06; 8:45 am]

BILLING CODE 4910-22-M